DEPARTMENT OF THE INTERIOR

Fish and Wildlife Service

[FWS-R2-ES-2011-N084; 20124-1112-0000-F2]

Draft Environmental Impact Statement and Draft Habitat Conservation Plan for Oncor Electric Delivery Facilities in 100 Texas Counties

AGENCY: Fish and Wildlife Service, Interior.

ACTION: Notice of availability of documents and announcement of public hearings.

SUMMARY: We, the U.S. Fish and Wildlife Service, announce the availability of the draft environmental impact statement and the draft Oncor Electric Delivery Company, LLC habitat conservation plan, under the National Environmental Policy Act of 1969. Oncor has applied for an incidental take permit (TE-40918A-0) under the Endangered Species Act of 1973, as amended, to authorize incidental take of 11 Federally listed species (covered species) in 100 Texas counties.

DATES: Comment period: To ensure consideration, we must receive written comments on or before close of business (4:30 p.m. CDT) October 13, 2011.

Public meetings: Nine public meetings, located throughout Oncor's proposed 100-county permit area, will be held between August 1, 2011, and September 28, 2011. Exact meeting locations and times will be announced in local newspapers, on the Austin Ecological Services Office Web site (http://www.fws.gov/southwest/es/AustinTexas/), and on Oncor's Web site (www.oncor-eis-hcp.com) at least 2 weeks prior to each meeting.

ADDRESSES: To find out how to obtain documents for review and where to submit comments, see Reviewing Documents and Submitting Comments in SUPPLEMENTARY INFORMATION.

FOR FURTHER INFORMATION CONTACT: Mr. Adam Zerrenner, Field Supervisor, by U.S. mail at U.S. Fish and Wildlife Service, 10711 Burnet Road, Suite 200, Austin, TX 78758, or by phone at (512) 490-0057.

SUPPLEMENTARY INFORMATION: Under the National Environmental Policy Act of 1969 (NEPA), this notice advises the public that:

(1) We, the U.S. Fish and Wildlife Service (Service), have gathered the information necessary to determine impacts and formulate alternatives for the draft environmental impact statement (dEIS) related to the potential issuance of an incidental take permit (ITP) to Oncor Electric Delivery Company, LLC (Applicant; Oncor), and

(2) That the Applicant has developed a draft habitat conservation plan (dHCP) which describes the measures Oncor has agreed to undertake to minimize and mitigate the effects of incidental take of Federally listed species to the maximum extent practicable, pursuant to section 10(a)(1)(B) of the Endangered Species Act of 1973, as amended (16 U.S.C. 1531 et seq.; Act).

Oncor has applied for an ITP (TE-40918A-0) under section 10(a)(1)(B) of the Act. The requested ITP, which would be in effect for a period of 30 years if granted, would authorize incidental take of the following 11 Federally listed species (covered species): Large-fruited sand-verbena (Abronia macrocarpa), Texas poppy-mallow (Callirhoe scabriuscula), Navasota ladies'-tresses (Spiranthes parksii), Pecos sunflower (Helianthus paradoxus), American burying beetle (Nicrophorus americanus), Houston toad (Bufo houstonensis), whooping crane (Grus americana), golden-cheeked warbler (Dendroica chrysoparia), black-capped vireo (Vireo atricapilla), red-cockaded woodpecker (Picoides borealis), and Louisiana black bear (Ursus americanus luteolus). The proposed incidental take would occur in 100 Texas counties that comprise the Applicant's service area, excluding Williamson and Travis counties, and with the addition of Runnels County, and would result from activities associated with maintenance and repair of existing electric facilities and installation and operation of new facilities.

Background

Our initial notice of intent to prepare an EIS and hold public scoping meetings published in the Federal Register on September 22, 2009 (74 FR 48285). A summary of comments provided during the 2009 scoping period, which included meetings held at nine locations throughout the proposed 100-county permit area, is available at http://www.fws.gov/southwest/es/AustinTexas/.

The dHCP for maintenance and construction activities for Oncor and the conservation program described in the dHCP were developed through a collaborative effort between the Service, the Applicant, and the Applicant's consultants, and also through outreach to potential interest groups, nonprofit organizations, and other stakeholders.

The Austin Ecological Services Office Web site (http://www.fws.gov/southwest/es/AustinTexas/) contains information on meetings, documents, and the status of the process.

Alternatives

We are considering three alternatives as part of this process: The no action alternative, the applicant's preferred alternative, and a project-by-project alternative:

1. No Action—No ITP would be issued. This alternative would require the Applicant to avoid activities within the proposed permit area that would, or potentially would, result in incidental take of any Federally listed species. The Applicant would continue to perform those activities that would not, or would not be expected to, result in violation of the Act.

2. Preferred Alternative—Issuance of an ITP by the Service for covered activities in the 100-county permit area, pursuant to section 10(a)(1)(B) of the Act. This is the Applicant's preferred alternative. The activities that would be covered by the ITP are general activities associated with new construction, maintenance, and emergency response and restoration, including stormwater discharges from construction sites, equipment access, and surveying. Construction activities covered for new facilities include new overhead transmission and distribution lines, new support facilities such as substations and switching stations, underground electric installation, and second-circuit addition on existing structures. Maintenance activities would include vegetation management within rights of way, expansion of existing support facilities, line upgrades, insulator replacement, and maintenance of underground electric facilities. The requested ITP will cover the 100-county permit area. The requested term of the permit is 30 years.

To meet the requirements of a section 10(a)(1)(B) ITP, the Applicant has developed and will implement the dHCP, which describes the conservation measures the Applicant has agreed to undertake to minimize and mitigate for incidental take of the covered species to the maximum extent practicable. As described in the HCP, the Applicant anticipates that incidental take would not appreciably reduce the likelihood of the survival and recovery of these species in the wild.

3. Project-Based Consultation—Project-by-project consultations or ITPs. This alternative would require Oncor to seek authorization on a project-by-project basis to address incidental take resulting from their actions, as needed, through section 7 or under section 10(a)(1)(B).

Section 9 of the Act and its implementing regulations prohibit the “taking” of threatened and endangered species. However, under limited circumstances, we may issue permits to take listed wildlife species incidental to, and not the purpose of, otherwise lawful activities.

Reviewing Documents and Submitting Comments

You may obtain copies of the dEIS and dHCP by going to http://www.fws.gov/southwest/es/AustinTexas/. Alternatively, you may obtain compact disks with electronic copies of these documents by writing to Mr. Adam Zerrenner, Field Supervisor, U.S. Fish and Wildlife Service, 10711 Burnet Road, Suite 200, Austin, TX 78758; calling (512) 490-0057; or faxing (512) 490-0974. A limited number of printed copies of the dEIS and dHCP are also available, by request, from Mr. Zerrenner. Copies of the dEIS and dHCP are also available for public inspection and review at the following locations (by appointment only at government offices):

—Department of the Interior, Natural Resources Library, 1849 C. St., NW., Washington, DC 20240.

—U.S. Fish and Wildlife Service, 500 Gold Avenue, SW., Room 6034, Albuquerque, NM 87102.

—U.S. Fish and Wildlife Service, 10711 Burnet Road, Suite 200, Austin, TX 78758.

Persons wishing to review the application may obtain a copy by writing to the Regional Director, U.S. Fish and Wildlife Service, P.O. Box 1306, Room 6034, Albuquerque, NM 87103.

Written comments may be submitted to Mr. Adam Zerrenner (see above). We will also accept written and oral comments at any of the nine public meetings (see DATES).

Public Availability of Comments

Written comments we receive become part of the public record associated with this action. Before including your address, phone number, e-mail address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Authority: We provide this notice under section 10(c) of the Act (16 U.S.C. 1531 et seq.) and its implementing regulations (50 CFR 17.22) and NEPA (42 U.S.C. 4321 et seq.) and its implementing regulations (40 CFR 1506.6).

Joy E. Nicholopoulos,
Acting Regional Director, Southwest Region, Albuquerque, New Mexico.

[FR Doc. 2011-17811 Filed 7-14-11; 8:45 am]

BILLING CODE 4310-55-P